DEPARTMENT OF THE INTERIOR

National Park Service

Notice of Availability of the Vacation Cabin Site Policy at Lake Mead National Recreation Area

AGENCY: National Park Service, Interior.

ACTION: Notice of Availability.

SUMMARY: The National Park Service announces publication of the Vacation Cabin Site policy at Lake Mead National Recreation Area.

Comments: Written comments were made on the draft revision, with a closing date of September 1, 2000. Only one comment was received on the draft revision, that the policy regarding approved exotic plants for use within the recreation area was confusing. The National Park Service has clarified the language regarding exotic plant species.

ADDRESSES: The Vacation Cabin Site policy is available on the Internet at http://www.nps.gov/lame/concessions/vcs.html. Requests for copies should be sent to Superintendent, Lake Mead National Recreation Area, 601 Nevada Highway, Boulder City, Nevada 89005.

FOR FURTHER INFORMATION CONTACT: Concessions Program Management at 702/293-8923.

SUPPLEMENTARY INFORMATION: Cabin site lease extensions are expiring in 2000 and 2001. New permits will be issued for a five year period, the maximum length of time allowed by law. This policy will become part of the permit.

There are three vacation cabin site areas within Lake Mead National Recreation Area: Stewart Point (54 sites), located along Lake Mead in Nevada, approximately two miles northeast of Rogers Spring; Temple Bar (32 sites), located along Lake Mead in Arizona, approximately one mile southeast of Temple Bar Resort; and Katherine (35 sites), located along Lake Mohave in Arizona, approximately two miles north of Katherine Landing.

Dated: November 2, 2000.
William K. Dickinson,
Acting Superintendent, Lake Mead National Recreation Area.

[FR Doc. 00-29551 Filed 11-17-00; 8:45 am]

BILLING CODE 4310-70-P